DEPARTMENT OF AGRICULTURE

Food and Nutrition Service

Agency Information Collection Activities; Comment Request: Assessment of Mandatory Supplemental Nutrition Assistance Program Employment & Training (E&T) Programs

AGENCY: Food and Nutrition Service (FNS), USDA.

ACTION: Notice.

SUMMARY: In accordance with the Paperwork Reduction Act of 1995, this notice invites the general public and other public agencies to comment on this proposed information collection for the Assessment of Mandatory Supplemental Nutrition Assistance Program (SNAP) Employment &Training (E&T) Programs. This collection is a new information collection.

This study will help identify how specific E&T processes and services affect a participant's likelihood of participating or being sanctioned, with particular attention to potential leakage points, such as initial referral, intake, and orientation. This study also will describe what data exists on how well mandatory programs help SNAP participants gain skills, certificates and credentials and gain stable, well-paying employment.

DATES: Written comments must be received on or before September 7, 2018.

ADDRESSES: Comments may be sent to: Jordan Younes, Food and Nutrition Service, U.S. Department of Agriculture, 3101 Park Center Drive, Room 1024, Alexandria, VA 22302. Comments may also be submitted via fax to the attention of Jordan Younes at 703-305-2576 or via email to jordan.younes@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Jordan Younes at 703-305-2935.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Assessment of Mandatory Employment and Training (E&T) Programs.

Form Number: N/A.

OMB Number: 0584-XXXX.

Expiration Date: Not Yet Determined.

Type of Request: New collection.

Abstract: Section 17 [7 U.S.C. 2026] (a)(1) of the Food and Nutrition Act of 2008, as amended, provides general legislative authority for the planned data collection. It authorizes the Secretary of Agriculture to enter into contracts with private institutions to undertake research that will help to improve the administration and effectiveness of the Supplemental Nutrition Assistance Program (SNAP) in delivering nutrition-related benefits.

The U.S. Department of Agriculture's Food and Nutrition Service (FNS) has funded the Assessment of Mandatory E&T Programs to examine program features and administrative practices of mandatory State SNAP E&T programs and assess how those features and practices may affect E&T participation, sanctions, and outcomes for mandatory E&T participants. While the intent of the mandatory E&T program is to assist SNAP participants in “gaining skills, trainings, or experience that will increase their ability to obtain regular employment,” little is known about whether or how specific E&T processes and services affect a participant's likelihood of participating or being sanctioned. In particular, little is known on whether complex intake or referral processes, rather than a lack of interest in participating in E&T, may negatively impact participation in mandatory programs. This study also seeks to understand what data exists on how well mandatory programs help SNAP participants gain skills, certificates, and credentials as well as stable, good-paying jobs. The findings from this study will identify lessons learned and best practices for operating mandatory E&T programs.

To address these issues, FNS is conducting a study to accomplish three objectives:

1. Understand the process for screening and notifying participants and enrolling them in mandatory E&T programs.

2. Determine the main reasons why mandatory E&T participants are sanctioned, with particular attention to program drop-off points that result in sanctions.

3. Assess how well mandatory programs help SNAP E&T participants gain skills, certificates, and credentials; gain stable, well-paying employment; and move toward economic self-sufficiency.

The study will gather data through site visits to six States operating mandatory E&T programs and from administrative caseload data. Data will be collected in each of the six study States through: (1) Interviews with the State SNAP director and E&T manager; (2) in-person interviews, process-mapping group discussions, and observations at two local SNAP offices; and (3) in-person interviews and observations at three local E&T providers. These data will provide information on overall State policies, client flow through the process, and staff perspectives on the effects of different practices on participation and sanctions. SNAP administrative caseload data will also be requested from the six study States, and if available, from E&T providers to obtain quantitative data to complement the interviews. Administrative data will be used to examine the characteristics of mandatory E&T participants in each State and to assess the E&T services, sanctions, case closures, and other outcomes associated with their E&T participation.

Affected Public: (1) State, Local and Tribal Governments; (2) Business or Other For-Profit; and (3) Not-For-Profit.

Respondent groups identified include:

1. State, Local, and Tribal Government: State SNAP directors, State E&T managers, State database administrators, and State E&T provider staff and database administrators in six study States ¹; and Local SNAP office staff in six study States;

¹ The study assumes information will be collected from 6 States. Information will be collected from 1 State SNAP agency per State for a total of 6 State offices; 2 local SNAP offices per State for a total of 12 local offices; and 3 E&T providers per State for a total of 18 E&T provider organizations. The 3 E&T providers are assumed to be a mix of State, Business or Other For-Profit, and Not-For-Profit organizations (i.e., 1 State, 1 For-Profit, and 1 Not-For-Profit E&T provider per State). Interviews will be conducted with all 3 of the E&T providers in each State (i.e., interviews will be conducted with staff at a total of 18 E&T providers), but only 1 of the 3 E&T providers will provide administrative data in each State (i.e., data files will be obtained from a total of 6 E&T providers comprised of 2 State, 2 Business, and 2 Not-For-Profit E&T providers). The 3 E&T providers in each State will indicate which 1 will provide administrative data in the initial contact with the E&T provider.

2. Business or Other For-Profit: Business E&T provider staff and database administrators in six study States;

3. Not-For-Profit: Not-For-Profit E&T provider staff and database administrators in six study States

Note that the E&T providers are assumed to be a mix of State, Business or Other For-Profit, and Not-For-Profit organizations (i.e., 1 State, 1 For-Profit, and 1 Not-For-Profit E&T provider per State).

Estimated Number of Respondents: The total estimated number of respondents is 147 (includes 101 State and Local Government staff, 23 Business or Other For-Profit staff, and 23 Not-For-Profit staff). Out of the 147 contacted, 138 are estimated to be responsive and 9 are estimated to be nonresponsive. The breakout is as follows:

1. 101 State and Local Government staff: (out of 12 State SNAP staff contacted, 12 are estimated to be responsive; out of 6 State database administrators contacted, 6 are estimated to be responsive; out of 23 State E&T provider staff contacted, 20 are estimated to be responsive; out of 60 Local office staff contacted, 60 are estimated to be responsive.)

2. 23 Business or Other For-Profit staff: (out of 23 Business E&T provider staff contacted, 20 are estimated to be responsive.)

3. 23 Not-For-Profit staff: (out of 23 Not-For-Profit E&T provider staff contacted, 20 are estimated to be responsive.)

Estimated Number of Responses per Respondent: 1.5714 (based on 231 total annual responses (222 responsive and 9 nonresponsive) made by the 147 respondents (138 responsive and 9 nonresponsive). See table below for the estimated number of responses per respondent for each type of respondent.

The breakout is as follows:

1. State SNAP Staff: The estimated number of responses per State SNAP staff is 1.5:

• 6 State SNAP directors will respond to advance materials and scheduling; the same 6 State SNAP directors plus 6 additional State E&T managers will take part in an interview.

2. State Database Administrators: The estimated number of responses per State Database Administrator is two:

• 6 State SNAP database administrators will respond to advance materials and scheduling; the same 6 State SNAP database administrators will submit an administrative data file.

3. State E&T Provider Staff: The estimated number of responses per State E&T provider staff is 1.4:

• 6 State E&T provider staff will respond to advance materials and scheduling, the same 6 E&T provider staff plus 12 additional E&T provider staff will take part in an interview (3 other State E&T provider staff will not respond).

• 2 State E&T provider database administrators will respond to advance materials and scheduling; the same 2 State SNAP database administrators will submit an administrative data file.

4. Local SNAP Office Staff: The estimated number of responses per Local SNAP office staff is 1.8:

• 12 Local SNAP office staff will respond to advance materials and scheduling, the same 12 Local SNAP office staff plus 24 additional Local SNAP office staff will take part in an interview; 36 of the Local SNAP office staff plus 24 additional Local SNAP office staff will take part in a group mapping exercise.

5. Business E&T Provider Staff: The estimated number of responses per Business E&T provider staff is 1.4:

• 6 Business E&T provider staff will respond to advance materials and scheduling, the same 6 Business E&T provider staff plus 12 additional Business E&T provider staff will take part in an interview (3 other Business E&T provider staff will not respond).

• 2 Business E&T provider database administrators will respond to advance materials and scheduling; the same 2 Business SNAP database administrators will submit an administrative data file.

6. Not-For-Profit E&T Provider Staff: The estimated number of responses per Not-For-Profit E&T provider staff is 1.4:

• 6 Not-For-Profit E&T provider staff will respond to advance materials and scheduling, the same 6 Not-For-Profit E&T provider staff plus 12 additional Not-For-Profit E&T provider staff will take part in an interview (3 other Not-For-Profit E&T provider staff will not respond).

• 2 Not-For-Profit E&T provider database administrators will respond to advance materials and scheduling; the same 2 Not-For-Profit SNAP database administrators will submit an administrative data file.

Estimated Total Annual Responses: 230.9958 (222 annual responses for responsive participants and 9 annual responses for nonresponsive participants).

Estimated Time per Response: 1.33047619 hours (1.38239 hours for responsive participants and 0.45 hours for nonresponsive participants). The estimated time of response varies from 0.05 hours to 8.7 hours depending on respondent group and activity, as shown in the table below.

Estimated Total Annual Burden on Respondents: 307.34 hours (306.89 hours for responsive participants, and 0.45 hours for nonresponsive participants). See the table below for estimated total annual burden for each type of respondent.

BILLING CODE 3410-30-P

Dated: June 28, 2018.
Brandon Lipps,
Administrator, Food and Nutrition Service.

[FR Doc. 2018-14538 Filed 7-6-18; 8:45 am]

BILLING CODE 3410-30-C